COMMISSION ON CIVIL RIGHTS

Sunshine Act Notice

Agency: U.S. Commission on Civil Rights.

Date and Time: Friday, August 26, 2005, 9:30 a.m., Continuation of Friday, July 22, 2005, Commission Meeting.

Place: U.S. Commission on Civil Rights, 624 9th Street, NW., Room 540, Washington, DC 20425. The meeting is also accessible to the public through the following: Call-In Number: 1-800-597-0731. Access Code Number: 43783773. Federal Relay Service: 1-800-877-8339.

Status:

Agenda *

I. Approval of Agenda

II. Approval of Minutes of June 17, 2005 Meeting

III. Announcements

IV. Program Planning

• Adarand Report

• Federal Funding of Civil Rights Report

V. Staff Director's Report

VI. Management and Operations

• Fiscal Year 2005 Financial Corrective Measures

• Fiscal Year 2007 Budget

VII. State Advisory Committees Issues

• State Advisory Committee Reports

• State Advisory Committee Rechartering

VIII. Discussion of Future Briefing

IX. Future Agenda Items

* This order of items on this Agenda reflects a motion made during the first portion of the meeting held on July 22, 2005, modifying the original Agenda published in the Federal Register on page 40980, July 15, 2005.

Contact Person For Further Information: Terri Dickerson, Press and Communications (202) 376-8582.

Kenneth L. Marcus,
Staff Director, Acting General Counsel.

[FR Doc. 05-16514 Filed 8-16-05; 4:24 pm]

BILLING CODE 6335-01-M